DEPARTMENT OF TRANSPORTATION

Federal Aviation Administration

14 CFR Part 39

[Docket No. 2003-CE-05-AD]

RIN 2120-AA64

Airworthiness Directives; SOCATA—Groupe AEROSPATIALE Models TB 9, TB 10, TB 20, TB 21, TB 200, TMB 700, Rallye 100S, Rallye 150T, Rallye 150ST, Rallye 235E, and Rallye 235C Airplanes

AGENCY: Federal Aviation Administration, DOT.

ACTION: Notice of proposed rulemaking (NPRM).

SUMMARY: This document proposes to adopt a new airworthiness directive (AD) that would apply to all SOCATA—Groupe AEROSPATIALE (SOCATA) Models TB 9, TB 10, TB 20, TB 21, TB 200, TMB 700, Rallye 100S, Rallye 150T, Rallye 150ST, Rallye 235E, and Rallye 235C airplanes. This proposed AD would require you to replace certain safety belts and restraint systems. This proposed AD is the result of mandatory continuing airworthiness information (MCAI) issued by the airworthiness authority for France. The actions specified by this proposed AD are intended to prevent failure of the safety belts and restraint systems caused by inadvertent opening of this equipment, which could result in bodily injury to the occupant during turbulence or landing.

DATES: The Federal Aviation Administration (FAA) must receive any comments on this proposed rule on or before April 29, 2003.

ADDRESSES: Submit comments to FAA, Central Region, Office of the Regional Counsel, Attention: Rules Docket No. 2003-CE-05-AD, 901 Locust, Room 506, Kansas City, Missouri 64106. You may view any comments at this location between 8 a.m. and 4 p.m., Monday through Friday, except Federal holidays. You may also send comments electronically to the following address: 9-ACE-7-Docket@faa.gov. Comments sent electronically must contain “Docket No. 2003-CE-05-AD” in the subject line. If you send comments electronically as attached electronic files, the files must be formatted in Microsoft Word 97 for Windows or ASCII text.

You may get service information that applies to this proposed AD from SOCATA—Groupe AEROSPATIALE, Customer Support, Aerodrome Tarbes-Ossun-Lourdes, BP 930-F65009 Tarbes Cedex, France; telephone: 011 33 5 62 41 73 00; facsimile: 011 33 5 62 41 76 54; or the Product Support Manager, SOCATA—Groupe AEROSPATIALE, North Perry Airport, 7501 Pembroke Road, Pembroke Pines, Florida 33023; telephone: (954) 894-1160; facsimile: (954) 964-4141. You may also view this information at the Rules Docket at the address above.

FOR FURTHER INFORMATION CONTACT: Karl Schletzbaum, Aerospace Engineer, FAA, Small Airplane Directorate, 901 Locust, Room 301, Kansas City, Missouri 64106; telephone: (816) 329-4146; facsimile: (816) 329-4090.

SUPPLEMENTARY INFORMATION:

Comments Invited

How Do I Comment on This Proposed AD?

The FAA invites comments on this proposed rule. You may submit whatever written data, views, or arguments you choose. You need to include the rule's docket number and submit your comments to the address specified under the caption ADDRESSES. We will consider all comments received on or before the closing date. We may amend this proposed rule in light of comments received. Factual information that supports your ideas and suggestions is extremely helpful in evaluating the effectiveness of this proposed AD action and determining whether we need to take additional rulemaking action.

Are There Any Specific Portions of This Proposed AD I Should Pay Attention To?

The FAA specifically invites comments on the overall regulatory, economic, environmental, and energy aspects of this proposed rule that might suggest a need to modify the proposed rule. You may view all comments we receive before and after the closing date of the proposed rule in the Rules Docket. We will file a report in the Rules Docket that summarizes each contact we have with the public that concerns the substantive parts of this proposed AD.

How Can I Be Sure FAA Receives My Comment?

If you want FAA to acknowledge the receipt of your mailed comments, you must include a self-addressed, stamped postcard. On the postcard, write “Comments to Docket No. 2003-CE-05-AD.” We will date stamp and mail the postcard back to you.

Discussion

What Events Have Caused This Proposed AD?

The Direction Générale de l'Aviation Civile (DGAC), which is the airworthiness authority for France, recently notified FAA that an unsafe condition may exist on all SOCATA Models TB 9, TB 10, TB 20, TB 21, TB 200, TMB 700, Rallye 100S, Rallye 150T, Rallye 150ST, Rallye 235E, and Rallye 235C airplanes. The DGAC reports inadvertent opening of the Anjou Aeronautique/TRW Repa S.A./L'Aiglon Types 343, 343-1, 343-1, 343M, 343AM, 343B, 343BM, 343C, 343CM, and 343D safety belts and restraint systems.

Further investigation into this subject found that a Model TBM 700 airplane was involved in a fatal accident on March 25, 2002. The report on this accident indicated that the pilot's seat belt buckle was broken and that all seat belts in the aircraft would snap open when given a sharp jerk. The belts involved were all Type 343-1 belts. The report also noted that belts tested in several other TBM 700 airplanes at a nearby hangar were found to snap open when given the quick-jerk test.

What Are the Consequences if the Condition Is Not Corrected?

Failure of the safety belts and restraint systems caused by inadvertent opening of this equipment could result in bodily injury to the occupant during turbulence or landing.

Is There Service Information That Applies to This Subject?

SOCATA has issued the following service letters for the affected airplanes:

Models | Service letter
TB 9, TB 10, TB 20, TB 21, and TB 200 | SL 10-057, dated June 2002.
TMB 700 | SL 70-027, dated June 2002.
Rallye 100S, Rallye 150T, Rallye 150ST, Rallye 235E, and Rallye 235C | SL 023, dated June 2002.

What Are the Provisions of This Service Information?

The service letters include procedures for:

—Repetitive visual inspections of the seat belt assembly; and

—Replacement of the seat belt assembly.

What Action Did the DGAC Take?

The DGAC classified these service letters as mandatory and, in order to ensure the continued airworthiness of these airplanes in France, issued the following French ADs:

—AD Number 2002-104(AB), dated February 20, 2002; and

—AD Number 2002-105(AB), dated February 20, 2002.

Was This in Accordance With the Bilateral Airworthiness Agreement?

These airplane models are manufactured in France and are type certificated for operation in the United States under the provisions of § 21.29 of the Federal Aviation Regulations (14 CFR 21.29) and the applicable bilateral airworthiness agreement.

Pursuant to this bilateral airworthiness agreement, the DGAC has kept FAA informed of the situation described above.

The FAA's Determination and an Explanation of the Provisions of This Proposed AD

What Has FAA Decided?

The FAA has examined the findings of the DGAC; reviewed all available information, including the service information referenced above; and determined that:

—The unsafe condition referenced in this document exists or could develop on other SOCATA Models TB 9, TB 10, TB 20, TB 21, TB 200, TMB 700, Rallye 100S, Rallye 150T, Rallye 150ST, Rallye 235E, and Rallye 235C of the same type design that are on the U.S. registry;

—The actions specified in the previously-referenced service information should be accomplished on the affected airplanes; and

—AD action should be taken in order to correct this unsafe condition.

What Would This Proposed AD Require?

This proposed AD would require you to replace the Anjou Aeronautique/TRW Repa S.A./L'Aiglon Types 343, 343-1, 343-1, 343M, 343AM, 343B, 343BM, 343C, 343CM, and 343D safety belts and restraint systems.

Cost Impact

How Many Airplanes Would This Proposed AD Impact?

We estimate that this proposed AD affects 617 airplanes in the U.S. registry:

Models | How many
TB 9, TB 10, TB 20, TB 21, and TB 2 | 420
TBM 700 | 158
Rallye 100S, Rallye 150T, Rallye 150ST, Rallye 235E, and Rallye 235C | 39

What Would Be the Cost Impact of This Proposed AD on Owners/Operators of the Affected Airplanes?

We estimate the following costs to accomplish the proposed seat belt assembly replacement for Models TB 9, TB 10, TB 20, TB 21, and TB 200 airplanes:

Labor cost | Parts cost | Total cost per airplane | Total cost on U.S. operators
2 workhours × $60 per hour = $120 for all 4 seats | 4 seats × $83 (each seat belt assembly) = $332 | $452 | $452 × 420 = $189,840

We estimate the following costs to accomplish the proposed seat belt assembly replacement for Model TBM 700 airplanes:

Labor cost | Parts cost | Total cost per airplane | Total cost on U.S. operators
3 workhours × $60 per hour = $180 for all 6 seats | 6 seats × $135 (each seat belt assembly) = $810 | $990 | $990 × 158 = $156,420

We estimate the following costs to accomplish the proposed seat belt assembly replacement for Models Rallye 100S, Rallye 150T, Rallye 150ST, Rallye 235E, and Rallye 235C airplanes:

Labor cost | Parts cost | Total cost per airplane | Total cost on U.S. operators
2 workhours × $60 per hour = $120 for all 4 seats | 4 seats × $33 (each seat belt assembly) = $132 | $252 | $252 × 39 = $9,828

Regulatory Impact

Would This Proposed AD Impact Various Entities?

The regulations proposed herein would not have a substantial direct effect on the States, on the relationship between the national government and the States, or on the distribution of power and responsibilities among the various levels of government. Therefore, it is determined that this proposed rule would not have federalism implications under Executive Order 13132.

Would This Proposed AD Involve a Significant Rule or Regulatory Action?

For the reasons discussed above, I certify that this proposed action (1) is not a “significant regulatory action” under Executive Order 12866; (2) is not a “significant rule” under DOT Regulatory Policies and Procedures (44 FR 11034, February 26, 1979); and (3) if promulgated, will not have a significant economic impact, positive or negative, on a substantial number of small entities under the criteria of the Regulatory Flexibility Act. A copy of the draft regulatory evaluation prepared for this action has been placed in the Rules Docket. A copy of it may be obtained by contacting the Rules Docket at the location provided under the caption ADDRESSES.

List of Subjects in 14 CFR Part 39

Air transportation, Aircraft, Aviation safety, Safety.

The Proposed Amendment

Accordingly, under the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new airworthiness directive (AD) to read as follows:

Socata—Groupe Aerospatiale: Docket No. 2003-CE-05-AD.

(a) What airplanes are affected by this AD? This AD affects Models TB 9, TB 10, TB 20, TB 21, TB 200, TMB 700, Rallye 100S, Rallye 150T, Rallye 150ST, Rallye 235E, and Rallye 235C airplanes, all serial numbers, that are certificated in any category.

(b) Who must comply with this AD? Anyone who wishes to operate any of the airplanes identified in paragraph (a) of this AD must comply with this AD.

(c) What problem does this AD address? The actions specified by this AD are intended to prevent failure of the safety belts and restraint systems caused by inadvertent opening of this equipment, which could result in bodily injury to the occupant during turbulence or landing.

(d) What actions must I accomplish to address this problem? To address this problem, you must accomplish the following:

Actions | Compliance | Procedures
(1) For Models TB 9, TB 10, TB 20, TB 21, TB 200, replace the Anjou Aeronautique/TRW Repa S.A./L'Aiglon Types 343, 343-1, 343-1, 343M, 343AM, 343B, 343BM, 343C, 343CM, and 343D safety belts and restraint systems, as follows (i) Replace safety type belt (2 points) with SOCATA part number (P/N) Z00.N6003987223 or FAA-approved equivalent P/N. (ii) Replace safety type belt (3 points) with SOCATA P/N Z00.N6003987224 or FAA-approved equivalent P/N. | Within the next 100 hours time-in-service (TIS) after the effective date of this AD, unless already accomplished | In accordance with EADS SOCATA Service Letter SL 10-057, dated June 2002, and the applicable airplane maintenance manual.
(2) For Model TMB 700, replace the Anjou Aeronautique/TRW Repa S.A./L'Aiglon Types 343, 343-1, 343-1, 343M, 343AM, 343B, 343BM, 343C, 343CM, and 343D safety belts and restraint systems, as follows (i) Replace safety type belt P/N T700A2510007103 (gray or beige color) with SOCATA P/N T700A251000710900 (gray) or P/N T700A251000711600 (beige), or FAA-approved equivalent P/Ns. (ii) Replace safety type belt P/N T700A2510007104 (gray or beige color) with SOCATA P/N T700A251000711000 (gray) or P/N T700A251000711700 (beige), or FAA-approved equivalent P/Ns. (iii) Replace safety type belt P/N T700A2510007105 (gray or beige color) with SOCATA P/N T700A251000710800 (gray) or P/N T700A251000711500 (beige), or FAA-approved equivalent P/Ns. | Within the next 100 hours time-in-service (TIS) after the effective date of this AD, unless already accomplished | In accordance with EADS SOCATA Service Letter SL 70-027, dated June 2002, and the applicable maintenance manual.
(3) For Models Rallye 100S, Rallye 150T, Rallye 150ST, Rallye 235E, and Rallye 235C, replace the Anjou Aeronautique/TRW Repa S.A./L'Aiglon Types 343, 343-1, 343-1, 343M, 343AM, 343B, 343BM, 343C, 343CM, and 343D safety belts and restraint systems with SOCATA P/N Z00.N6003987223 or FAA-approved equivalent P/N | Within the next 100 hours time-in-service (TIS) after the effective date of this AD, unless already accomplished | In accordance with EADS SOCATA Service Letter SL 023, dated June 2002, and the applicable airplane maintenance manual.
(4) On any affected models, do not install any Anjou Aeronautique/TRW Repa S.A./L'Aiglon Types 343, 343-1, 343-1, 343M, 343AM, 343B, 343BM, 343C, 343CM, and 343D safety belts and restraint systems | As of the effective date of this AD | Not applicable.

(e) Can I comply with this AD in any other way? You may use an alternative method of compliance or adjust the compliance time if:

(1) Your alternative method of compliance provides an equivalent level of safety; and

(2) The Standards Office Manager, Small Airplane Directorate, approves your alternative. Submit your request through an FAA Principal Maintenance Inspector, who may add comments and then send it to the Standards Office Manager.

Note 1: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? Contact Karl Schletzbaum, Aerospace Engineer, FAA, Small Airplane Directorate, 901 Locust, Room 301, Kansas City, Missouri 64106; telephone: (816) 329-4146; facsimile: (816) 329-4090.

(g) What if I need to fly the airplane to another location to comply with this AD? The FAA can issue a special flight permit under sections 21.197 and 21.199 of the Federal Aviation Regulations (14 CFR 21.197 and 21.199) to operate your airplane to a location where you can accomplish the requirements of this AD.

(h) How do I get copies of the documents referenced in this AD? You may get copies of the documents referenced in this AD from SOCATA Groupe AEROSPATIALE, Customer Support, Aerodrome Tarbes-Ossun-Lourdes, BP 930—F65009 Tarbes Cedex, France; telephone: 011 33 5 62 41 73 00; facsimile: 011 33 5 62 41 76 54; or the Product Support Manager, SOCATA—Groupe AEROSPATIALE, North Perry Airport, 7501 Pembroke Road, Pembroke Pines, Florida 33023; telephone: (954) 894-1160; facsimile: (954) 964-4141. You may view these documents at FAA, Central Region, Office of the Regional Counsel, 901 Locust, Room 506, Kansas City, Missouri 64106.

Note 2: The subject of this AD is addressed in the following French ADs:

AD Number 2002-104(AB), dated February 20, 2002; and

AD Number 2002-105(AB), dated February 20, 2002.

Issued in Kansas City, Missouri, on February 28, 2003.
Michael Gallagher,
Manager, Small Airplane Directorate, Aircraft Certification Service.

[FR Doc. 03-5387 Filed 3-6-03; 8:45 am]

BILLING CODE 4910-13-P